DEPARTMENT OF HEALTH AND HUMAN SERVICES

Centers for Disease Control and Prevention

[Docket Number NIOSH-247]

Buy Quiet Workshop

AGENCY: National Institute for Occupational Safety and Health (NIOSH) of the Centers for Disease Control and Prevention (CDC), Department of Health and Human Services (HHS).

ACTION: Notice of public meeting.

SUMMARY: The National Institute for Occupational Safety and Health (NIOSH) of the Centers for Disease Control and Prevention (CDC) will be holding a two-day Buy Quiet Workshop. The Workshop is a National Occupational Research Agenda (NORA) activity jointly organized by the NORA Construction Sector and Manufacturing Sector Programs, and the NIOSH Hearing Loss Prevention Cross-sector Program. The purpose of the Workshop is to determine feasibility and functionality of Buy Quiet programs and to explore proactive steps to ensure successful implementation. The Workshop goal is to stimulate the wider adoption of current and future engineering noise controls on machinery and equipment and to motivate the development and implementation of Buy Quiet programs for the Construction and Manufacturing industries.

Date and Time: November 9-10, 2011, 8 a.m.-5 p.m., Eastern Standard Time.

Place: Robert A. Taft Laboratories, Taft Auditorium, 4676 Columbia Parkway, Cincinnati, Ohio 45226.

ADDRESSES: If interested in attending the meeting, please contact the NIOSH Docket Office at:

• Mail: NIOSH Docket Office, Robert A. Taft Laboratories, MS-C34, 4676 Columbia Parkway, Cincinnati, Ohio 45226.

• Facsimile: (513) 533-8285.

• E-mail: nioshdocket@cdc.gov.

• Telephone: (513) 533-8611.

Free registration and information on the workshop can be found at http://www.team-psa.com/BUYQUIET.

Security Considerations: Due to mandatory security clearance procedures at the Robert A. Taft Laboratories, in-person attendees must present valid government-issued picture identification to security personnel upon entering the parking lot.

Non-U.S. Citizens: Because of CDC Security Regulations, any non-U.S. citizen wishing to attend this meeting must provide the following information in writing to the NIOSH Docket Officer at the address below no later than October 21, 2011:

1. Name:

2. Gender:

3. Date of Birth:

4. Place of birth (city, province, state, country):

5. Citizenship:

6. Passport Number:

7. Date of Passport Issue:

8. Date of Passport Expiration:

9. Type of Visa:

10. U.S. Naturalization Number (if a naturalized citizen):

11. U.S. Naturalization Date (if a naturalized citizen):

12. Visitor's Organization:

13. Organization Address:

14. Organization Telephone Number:

15. Visitor's Position/Title within the Organization:

This information will be transmitted to the CDC Security Office for approval. Visitors will be notified as soon as approval has been obtained.

Status: The meeting is open to the public, limited only by the space available. The meeting space accommodates approximately 100 people.

SUPPLEMENTARY INFORMATION:

Recommended Attendees: Purchasing agents and buyers of construction and manufacturing machinery and equipment who believe “Buy Quiet” programs can be effectively and efficiently woven into existing procurement processes.

Construction and manufacturing employers who wish to investigate the cost effectiveness of “Buy Quiet” and determine how best to use the program to demonstrate best available engineering noise control technology is being deployed at their worksites.

Noise control engineers, product designers and manufacturers wishing to learn how best to gather and present noise level information and to provide necessary information to their customers in support of “Buy Quiet” programs.

Other safety and health professionals and employee representatives who want to assist in bringing “Buy Quiet” programs into the workplace.

Format: Day one will provide presentations from invited speakers. Day two will combine presentations with break-out sessions and roundtable discussions. The break-outs and roundtable will provide participants the opportunity to share relevant experiences and aspirations on process techniques for implementation, incentives and barriers for implementation, and research to practice products and partnerships.

Note: This workshop is not a sales event nor will exhibits of any kind be allowed. Any attendees who attempt to use this meeting for sales purposes will be asked to leave. This meeting is to explore methods for the development and implementation of “Buy Quiet” programs that meet the needs of the business community identified as part of the Construction and Manufacturing industry sectors.

Contact Person For More Information: Charles Hayden, NIOSH, MS-C27, Robert A. Taft Laboratories, 4676 Columbia Parkway, Cincinnati, Ohio 45226, telephone (513) 533-8152, E-mail chayden@cdc.gov.

Dated: October 12, 2011.
John Howard,
Director, National Institute for Occupational Safety and Health, Centers for Disease Control and Prevention.

[FR Doc. 2011-26867 Filed 10-17-11; 8:45 am]

BILLING CODE 4163-19-P